DEPARTMENT OF THE TREASURY

Internal Revenue Service

Open Meeting of the Taxpayer Advocacy Panel's Notices and Correspondence Project Committee

AGENCY: Internal Revenue Service (IRS), Treasury.

ACTION: Notice of change of meeting date.

SUMMARY: In the Federal Register notice that was originally published on December 28, 2015, (Volume 80, Number 248, Page 80879), the meeting date is now changed. The new dates for the meeting are, Monday, February 29, 2016 and Tuesday, March 1, 2016.

DATES: The meeting will be held Monday, February 29, 2016 and Tuesday, March 1, 2016.

FOR FURTHER INFORMATION CONTACT: Theresa Singleton at 1-888-912-1227 or 202-317-3329.

SUPPLEMENTARY INFORMATION: Notice is hereby given pursuant to Section 10(a)(2) of the Federal Advisory Committee Act, 5 U.S.C. App. (1988) that a meeting of the Taxpayer Advocacy Panel Notices and Correspondence Project Committee will be held Monday, February 29, 2016, from 1:00 p.m. to 4:30 p.m. and Tuesday, March 1, 2016, from 8:00 a.m. until 4:30 p.m. Eastern Time at the Charles Bennett Federal Building, 400 West Bay Street, Jacksonville, FL 32202. The public is invited to make oral comments or submit written statements for consideration. Due to limited time and structure of meeting, notification of intent to participate must be made with Theresa Singleton. For more information please contact Theresa Singleton at 1-888-912-1227 or 202-317-3329, or write TAP Office, 1111 Constitution Ave. NW., Room 1509, Washington, DC 20224 or contact us at the Web site: http://www.improveirs.org. The agenda will include various IRS issues.

Dated: January 7, 2016.
Antoinette Ross,
Acting Director, Taxpayer Advocacy Panel.

[FR Doc. 2016-00551 Filed 1-13-16; 8:45 am]

BILLING CODE 4830-01-P